DEPARTMENT OF THE INTERIOR

Fish and Wildlife Service

[FWS-HQ-IA-2014-N232; FXIA16710900000-156-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before December 8, 2014. We must receive requests for marine mammal permit public hearings, in writing, at the address shown in the ADDRESSES section by December 8, 2014.

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Arizona Turtle Compound, Surprise, AZ; PRT-71315A

The applicant requests to amend their captive-bred registration under 50 CFR 17.21(g) to add the following species for the purpose of enhancement of the survival of the species. This notification covers activities to be conducted by the applicant over a 5 -year period.

Species

Aquatic box turtle (Terrapene Coahuila)

Galapagos tortoise (Chelonoidis nigra)

Bolson tortoise (Gopherus flavomarginatus)

Yellow-spotted side-necked turtle (Podocnemis unifilis)

Giant Amazon river turtle (Podocnemis expansa)

Spotted pond turtle (Geoclemys hamiltonii)

Cuban rock iguana (Cyclura nubila)

Grand Cayman iguana (Cyclura lewisi)

Cayman Brac ground iguana (Cyclura nubila caymanensis)

San Esteban Island chuckwalla (Sauromalus varius)

Applicant: Binder Park Zoo, Battle Creek, MI; PRT-701789

The applicant requests a captive-bred wildlife registration under 50 CFR 17.21(g) for the following families and species to enhance the species' propagation or survival. This notification covers activities to be conducted by the applicant over a 5-year period.

Species

Bontebok (Damaliscus pygargus dorcas)

Cheetah (Acinonyx jubatus)

African wild dog (Lycaon pictus)

Panamanian golden frog (Atelopus varius zeteki)

Red-Necked gazelle (Nanger dama ruficollis)

White handed gibbon (Hylobates lar)

Przewalski's wild horse (Equus przewalskii)

Snow leopard (Uncia uncia)

Parma wallaby (Macropus parma)

Mexican gray wolf (Canis lupus baileyi)

Ring-tailed lemur (Lemur catta)

Black-and-white ruffed lemur (Varecia variegate)

Cotton-topped tamarin (Saguinus oedipus)

Applicant: The Institute of Greatly Endangered and Rare Species, Myrtle Beach, SC; PRT-36398B

The applicant requests a permit to export and re-import 18 captive-born tigers (Panthera tigris) for the purpose of enhancement of the survival of the species to Cancun, Quintana Roo, Mexico. This notification covers activities to be conducted by the applicant over a 3-year period.

Applicant: Jerry Fife, Laveen, AZ; PRT-833285

The applicant requests renewal of a captive-bred wildlife registration under 50 CFR 17.21(g) for the Galapagos tortoise (Chelonoidis nigra) and the radiated tortoise (Astrochelys radiata) to enhance the species' survival through captive propagation. This notification covers activities to be conducted by the applicant over a 5-year period.

Applicant: Potter Park Zoo, Lansing, MI; PRT-672455

The applicant requests renewal of a captive-bred wildlife registration under 50 CFR 17.21(g) for the following families and species to enhance the species survival through captive propagation. This notification covers activities to be conducted by the applicant over a 5-year period.

Family

Bovidae

Callithricidae

Canidae

Cebidae

Cercopithecidae

Cervidae

Elephantidae

Felidae

Hominidae

Hylobatidae

Lemuridae

Macropodidae

Tapiridae

Accipitridae

Anatidae

Falconidae

Struthionidae

Sturnidae

Alligatoridae

Applicant: Animals of Montana, Bozeman, MT; PRT-36691B

The applicant requests renewal of a captive-bred wildlife registration under 50 CFR 17.21(g) for the African hunting dog (Lycaon pictus), clouded leopard (Neofelis nebulosa), snow leopard (Uncia uncia), and spotted leopard (Panthera pardus) to enhance the species' survival through captive propagation. This notification covers activities to be conducted by the applicant over a 5-year period.

Applicant: Los Angeles Zoo and Botanical Gardens, Los Angeles, CA; PRT-45687B

The applicant requests a permit to import two female mandrills (Mandrillus sphinx) from Zoo La Palmyre, France, for the purpose of enhancement of the survival of the species. This notification covers activities to be conducted by the applicant over a 5-year period.

Applicant: Los Angeles Zoo and Botanical Gardens, Los Angeles, CA; PRT-43317B

The applicant requests a permit to import one male mandrill (Mandrillus sphinx) from Tierpark Ueckermunde, Germany, for the purpose of enhancement of the survival of the species. This notification covers activities to be conducted by the applicant over a 5-year period.

Applicant: Close-Up Creatures, LLC, Naples, FL; PRT-19478A

The applicant requests amendment of their captive-bred wildlife registration under 50 CFR 17.21(g) for the clouded leopard (Neofelis nebulosa) and cheetah (Acinonyx jubatus) to enhance the species' propagation or survival. The notification covers activities to be conducted by the applicant over the remainder of the 5-year period for which the permit would be valid.

Applicant: Wildlife Conservation Society, Bronx, NY; PRT-45536B

The applicant requests a permit to import two female captive-born southern pudus (Pudu puda) from Africam Safari, Mexico, for the purpose of enhancement of the survival of the species.

Applicant: Corey Knowlton, Royse City, TX; PRT-33291B

The applicant requests a permit to import the sport-hunted trophy of one male black rhinoceros (Diceros bicornis) taken from the wild in Namibia, for the purpose of enhancement of the survival of the species.

Applicant: Michael Luzich, Las Vegas, NV; PRT-33743B

The applicant requests a permit to import the sport-hunted trophy of one male black rhinoceros (Diceros bicornis) taken from the wild in Namibia, for the purpose of enhancement of the survival of the species.

Multiple Applicants

The following applicants each request a permit to import the sport-hunted trophy of one male bontebok (Damaliscus pygargus pygargus) culled from a captive herd maintained under the management program of the Republic of South Africa, for the purpose of enhancement of the survival of the species.

Applicant: Denis Ksarnosky, Burlington, WI; PRT-47740B; Applicant: Robert Patton, Fort Worth, TX; PRT-46007B; Applicant: Austin Pipkin, Houston, TX; PRT-48390B; Applicant: Albert Seeno, Concord, CA; PRT-46538B; Applicant: Don Byrne, Montgomery, TX; PRT-47538B;

B. Endangered Marine Mammals and Marine Mammals

Applicant: National Marine Mammal Laboratory, NOAA, Seattle, WA; PRT-212570

The applicant requests renewal of the permit to harass walrus (Odobenus rosmarus) and polar bear (Ursus maritimus) during aerial surveys in Alaska for the purpose of scientific research. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2014-26357 Filed 11-5-14; 8:45 am]

BILLING CODE 4310-55-P